DEPARTMENT OF HEALTH AND HUMAN SERVICES

Centers for Disease Control and Prevention

[Program Announcement 00104]

National Tuberculosis Controllers Association; Notice of Availability of Funds

A. Purpose

The Centers for Disease Control and Prevention (CDC) announces the availability of fiscal year (FY) 2000 funds for a cooperative agreement program for the National Tuberculosis Controllers Association (NTCA). This program addresses the “Healthy People 2010”, priority area of Immunization and Infectious Diseases.

The purpose of this program is to: (1) Maintain an effective communication capacity among the nation's tuberculosis (TB) control officials (TB Controllers) and TB nursing professionals; (2) to sustain a capacity for coordinating the rapid, comprehensive assessment of problems and opportunities in the field of TB prevention and control; (3) to maintain the capacity to coordinate the consultations and collaborations that produce a front line perspective on the fast moving programmatic, scientific, and technological issues affecting the goal of TB elimination; (4) to assist in identifying TB training needs; and (5) to continue the capacity for cataloging and tracking the public and private assets of the nation's TB elimination effort.

B. Eligible Applicants

Assistance will be provided only to the National Tuberculosis Controllers Association (NTCA). No other applications are solicited.

NTCA is the only organization that has an established relationship with state and local health department TB prevention and control programs, access to TB Controllers and TB nursing professionals, and expertise which is necessary to carry out the project. NTCA is a unique organization because of the technical expertise of its members, especially relating to its application amidst the complex and changing environment of front line health care delivery.

Note: Public Law 104-65 states that an organization described in section 501(c)(4) of the Internal Revenue Code of 1986 that engages in lobbying activities is not eligible to receive Federal funds constituting an award, grant, cooperative agreement, contract, loan, or any other form.

C. Availability of Funds

Approximately $150,000 will be available in FY 2000 to fund this award. It is expected that the award will begin on or about September 30, 2000, and will be made for a 12-month budget period within a project period of up to 5 years. Funding estimates may change.

Continuation awards within an approved project will be made on the basis of satisfactory progress as evidenced by required reports and the availability of funds.

D. Where To Obtain Additional Information

This and other CDC announcements can be found on the CDC home page Internet address—http://www.cdc.gov. Click on “Funding” then “Grants and Cooperative Agreements”. An application kit will be provided to NTCA.

If you have questions after reviewing the contents of all the documents, business management technical assistance may be obtained from: Carrie Clark, Grants Management Specialist, Grants Management Branch, Procurement and Grants Office, Centers for Disease Control and Prevention, Room 3000, 2920 Brandywine Road, Atlanta, GA 30341-4146, Telephone: (404) 488-2783, E-Mail Address: zri4@cdc.gov.

For program technical assistance, contact: John Seggerson, Office of the Director, Division of Tuberculosis Elimination, National Center for HIV, STD, and TB Prevention, Mail Stop E-10, Atlanta, GA 30333, Telephone: (404) 639-5328, E-Mail Address: jjs1@cdc.gov.

Dated: June 8, 2000.
Henry S. Cassell, III,
Acting Director, Procurement and Grants Office, Centers for Disease Control and Prevention (CDC).

[FR Doc. 00-14948 Filed 6-13-00; 8:45 am]

BILLING CODE 4163-18-P